DEPARTMENT OF DEFENSE

GENERAL SERVICES ADMINISTRATION

NATIONAL AERONAUTICS AND SPACE ADMINISTRATION

48 CFR Parts 22, 25, and 52

[FAC 2005-56; FAR Case 2011-030; Item VI; Docket 2011-0030, Sequence 1]

RIN 9000-AM16

Federal Acquisition Regulation; New Designated Country (Armenia) and Other Trade Agreements Updates

Correction

In rule document 2012-4495 appearing on pages 12935 through 12937 in the issue of Friday, March 2, 2012, make the following corrections:

PART 52—SOLICITATION PROVISIONS AND CONTRACT CLAUSES

1. On page 12936 in § 52.212-5, in the second column, the eighteenth line from the bottom of the page is amended to read: “CONTRACT TERMS AND CONDITIONS REQUIRED TO IMPLEMENT STATUTES OR EXECUTIVE ORDERS—COMMERCIAL ITEMS (MAR 2012)”.

2. On page 12936 in § 52.222-19, in the second column, the thirteenth line from the bottom of the page is amended to read: “(27) 52.222-19, Child Labor—Cooperation with Authorities and Remedies (MAR 2012) (E.O. 13126).”

3. On page 12936 in § 52.225-5, in the second column, the eleventh line from the bottom of the page is amended to read: “(41) 52.225-5, Trade Agreements (MAR 2012) (19 U.S.C. 2501, et seq., 19 U.S.C. 3301 note).”

4. On Page 12936 in § 52.213-4, in the third column,the fourth line from the top of the page is amended to read: “TERMS AND CONDITIONS—SIMPLIFIED ACQUISITIONS (OTHER THAN COMMERCIAL ITEMS) (MAR 2012)”

5. On page 12936 in § 52.222-19, in the third column, the ninth line from the top of the page is amended to read: “(i) 52.222-19, Child Labor—Cooperation with Authorities and Remedies (MAR 2012) (E.O. 13126). (Applies to contracts for supplies exceeding the micro-purchase threshold.)”

6. On page 12936 in § 52.222-19, in the third column, the twenty-fifth line from the top of the page is amended to read: “CHILD LABOR—COOPERATION WITH AUTHORITIES AND REMEDIES (MAR 2012)”

7. On page 12936 in § 52.225-5, in the third column, the thirty-fourth line from the top of the page is amended to read: “TRADE AGREEMENTS (MAR 2012).

8. On page 12936 in § 52.225-7, in the third column, the eighteen line from the bottom of the page is amended to read: “WAIVER OF BUY AMERICAN ACT FOR CIVIL AIRCRAFT AND RELATED ARTICLES (MAR 2012)”.

9. On page 12937 in § 52.225-11,in the first column, the ninth line from the top of the page is amended to read: “BUY AMERICAN ACT—CONSTRUCTION MATERIALS UNDER TRADE AGREEMENTS (MAR 2012)”

10. On page 12937 in § 52.225-23, in the first column, the twenty-seventh line from the top of the page is amended to read: “REQUIRED USE OF AMERICAN IRON, STEEL, AND MANUFACTURED GOODS—BUY AMERICAN ACT—CONSTRUCTION MATERIALS UNDER TRADE AGREEMENTS (MAR 2012)”

[FR Doc. C1-2012-4495 Filed 3-8-12; 8:45 am]

BILLING CODE 1505-01-D